DEPARTMENT OF THE INTERIOR

Fish and Wildlife Service

[FWS-R6-R-2010-N194; 60138-1265-6CCP-S3]

Bowdoin National Wildlife Refuge Complex, Malta, MT; Comprehensive Conservation Plan

AGENCY: Fish and Wildlife Service, Interior.

ACTION: Notice of availability; request for comments.

SUMMARY: We, the U.S. Fish and Wildlife Service (Service), announce that our draft comprehensive conservation plan (CCP) and environmental assessment (EA) for Bowdoin National Wildlife Refuge Complex is available. This draft CCP/EA describes how the Service intends to manage this refuge complex for the next 15 years.

DATES: To ensure consideration, we must receive your written comments on the draft CCP/EA by July 25, 2011. Submit comments by one of the methods under ADDRESSES.

ADDRESSES: Send your comments or requests for more information by any of the following methods.

E-mail: bowdoin@fws.gov. Include “Bowdoin NWR Complex” in the subject line of the message.

Fax: Attn: Laura King, Planning Team Leader, 406-644-2661.

U.S. Mail: Laura King, Planning Team Leader, c/o National Bison Range, 58355 Bison Range Road, Moiese, MT 59824.

Information Request: A copy of the CCP/EA may be obtained by writing to U.S. Fish and Wildlife Service, Division of Refuge Planning, 134 Union Boulevard, Suite 300, Lakewood, Colorado 80228; or by download from http://mountain-prairie.fws.gov/planning.

FOR FURTHER INFORMATION CONTACT: Laura King, 406-644-2211, ext. 210 (phone); 406-644-2661 (fax); or laura_king@fws.gov (e-mail); or David C. Lucas, 303-236-4366 (phone): 303-236-4792 (fax): or david_c_lucas@fws.gov.

SUPPLEMENTARY INFORMATION: The 85,713-acre Bowdoin National Wildlife Refuge Complex (refuge complex) is part of the National Wildlife Refuge System. It is located in the mixed-grass prairie region of north-central Montana, within an area known as the prairie pothole region. The refuge complex oversees management of five national wildlife refuges: Bowdoin National Wildlife Refuge and four unstaffed satellite refuges—Black Coulee, Creedman Coulee, Hewitt Lake, and Lake Thibadeau National Wildlife Refuges. In addition, the refuge complex also manages the four-county Bowdoin Wetland Management District (district), which has nine waterfowl production areas in Blaine, Hill, Phillips, and Valley Counties along with conservation easements that protect approximately 40,159 acres of wetlands and grasslands. While the five national wildlife refuges and the wetland management district were established under different authorities, the primary purpose is to provide migration, nesting, resting, and feeding habitat for migratory birds in their wetlands and uplands. Bowdoin National Wildlife Refuge has been designated as an important bird area through a program administered by the National Audubon Society. The four satellite refuges have both fee title and private lands within their boundaries. These lands are encumbered by refuge and flowage easements giving the Service the right to impound water, control the uses that occur on that water, and control any hunting and trapping. Access to these privately owned areas is by landowner permission only.

The refuge complex provides opportunities for the public to enjoy compatible wildlife-dependent public use activities including hunting, limited fishing, wildlife observation, photography, environmental education, and interpretation. A full-time staff of five employees and various summer temporaries manage and study the refuge habitats and maintain visitor facilities. Domestic livestock grazing, prescribed fire, and haying are the primary management tools used to maintain and enhance upland habitats. Water level manipulation is used to improve wetland habitats. Invasive and nonnative plant species are controlled and eradicated. Large, intact, native prairie communities can still be found throughout the refuge complex providing nesting habitat for over 29 species of resident and migratory birds. Native grazers such as pronghorn, white-tailed deer, and mule deer browse and graze the uplands. Four wetland classes are found on the refuge complex: Temporary, seasonal, semipermanent, and permanent and include both freshwater and saline wetlands. There are more than 10,000 acres of wetlands in the refuge complex. These wetlands have a diverse distribution of sizes, types, locations, and associations. The chemistry of surface waters in these wetlands tends to be dynamic because of interactions among numerous factors, such as the position of the wetland in relation to ground water flow systems, chemical composition of ground water, surrounding land uses, and climate. As part of the central flyway, this concentration of wetlands attracts thousands of migrating shorebirds and waterfowl to the refuge complex.

Approximately 25,000 people visit the refuge annually. A 15-mile interpreted auto tour route and nature trail on the Bowdoin National Wildlife Refuge account for the majority of visitor use. Fishing is only open on McNeil Slough and Beaver Creek WPAs. The remaining complex waters do not support a sport fishery due to high salinity levels or shallow water depth. Excluding Holm WPA, the remaining complex is open to limited hunting of waterfowl and upland game birds. The four satellite refuges (with landowner permission) and the remaining eight WPAs are also open to big game hunting, according to state regulations and seasons.

This draft CCP/EA includes the analyses of three different sets of alternatives including three alternatives for managing the refuge complex, two alternatives to evaluate the divestiture of Lake Thibadeau, and five alternatives for addressing the salinity and blowing salts issue on Bowdoin National Wildlife Refuge.

Alternatives for the Overall Management of the Refuge Complex

Alternative A, Current Management (No Action). Funding, staff levels, and management activities at the refuge complex would not change. The current staff of five Service employees would continue to manage Bowdoin National Wildlife Refuge Complex primarily for migratory birds. The Service would continue to manipulate native grasslands using various management techniques including prescribed fire, haying, and grazing. Approximately 10 percent of the uplands would be grazed annually, and there would be minimal monitoring of response. As resources become available, cropland on waterfowl production areas would be restored to native grasses and forbs; however, dense nesting cover would continue to be seeded on highly erodible lands in the wetland management district. The Service would continue to use mechanical and chemical methods to control existing and new infestations of Russian olive. Larger infestations of invasive species such as crested wheatgrass would continue to be given little to no attention due to the extent of infestation and the lack of resources and staff.

The Service would continue to attempt to mimic natural conditions on managed wetlands to meet the needs of migratory waterbirds. The 19 ground water wells on and around Bowdoin Refuge would be monitored to collect water quality data for the refuge and the Beaver Creek Waterfowl Production Area. Lake Bowdoin and Dry Lake would continue to be managed as closed basins. Visitor services programs including hunting, fishing, wildlife observation, photography, environmental education, and interpretation would remain at current levels.

Alternative B, the Proposed Action. The Service would conserve natural resources by restoring, protecting, and enhancing native mixed-grass prairie and maintaining high-quality wetland habitat for target migratory and resident birds within the Bowdoin National Wildlife Refuge Complex. Invasive and nonnative plants that are causing habitat losses and fragmentation would be controlled or eradicated. Research would be conducted to control crested wheatgrass and restore treated areas. Enhanced wetlands would be managed to mimic natural conditions for wetland-dependent migratory birds during spring and fall migrations and during the breeding and nesting season.

Visitor services programs would be enhanced, providing additional opportunities for staff- and volunteer-led programs to provide a greater understanding of the purposes of the refuge complex, importance of conserving migratory birds and the unique mixed-grass prairie and wetlands, and an awareness of the mission of the U.S. Fish and Wildlife Service and the National Wildlife Refuge System. A sanctuary area would be created for waterfowl on the east 60 percent of the Bowdoin National Wildlife Refuge during the hunting season, closing this to all foot traffic. A new wildlife observation site would be added on the auto tour route. The Service would investigate the need and consequences of offering a big game hunt at Bowdoin Refuge. The success of these additional efforts and programs would depend on added staff, research, and monitoring programs, including additional operations funding, infrastructure, and new and expanded partnerships.

Alternative C. This alternative includes most of the elements in Alternative B. In addition, the Service would increase the water management infrastructure (for example, water delivery systems, dikes, and levees to manipulate individual wetlands) to create a more diverse and productive wetland complex. Biological staff would monitor the level of sedimentation occurring in natural wetlands and plan for its removal to restore the biological integrity of these wetlands. Through partnerships, the Service would increase the acres of invasive species treated annually with an emphasis on preventing further encroachment of crested wheatgrass and Russian olive trees into native grassland. The Service would investigate the feasibility of offering a limited, archery-only, big game hunt at Bowdoin Refuge. The refuge complex would serve as a conservation learning center for the area. Public access would be improved to Creedman Coulee Refuge.

Alternatives for Lake Thibadeau National Wildlife Refuge

Using a divestiture model, developed by the Mountain-Prairie Region of the Service, the habitat quality and ability of Lake Thibadeau National Wildlife Refuge to meet its purposes and support the goals of the National Wildlife Refuge System, were evaluated. The Service owns less than 1 percent of the lands within the 3,868-acre approved acquisition boundary; the remaining area is private lands encumbered by refuge and flowage easements. These easements give the Service the right to manage the impoundments and the uses that occur on that water and to control hunting and trapping, but these easements do not prohibit development, grazing, or agricultural uses. Due to upstream development in the watershed, the impoundments do not receive adequate water supplies and are often dry enough to be farmed; the surrounding upland areas are also farmed or heavily grazed. This loss or lack of habitat has resulted in the Service's proposed action to divest this refuge. The Service completed an environmental analysis of two alternatives to address the situation at the Lake Thibadeau Refuge:

(1) Lake Thibadeau Refuge Alternative 1—Current management (no action);

(2) Lake Thibadeau Refuge Alternative 2—Divestiture (proposed action).

Alternatives for Salinity and Blowing Salts on Bowdoin National Wildlife Refuge

The principle sources of water for the Bowdoin National Wildlife Refuge are precipitation, floodwater from Beaver Creek, ground-water seepage, water deliveries from the Milk River Project, and irrigation return flows. The last three sources of water add dissolved solids (salinity) to the refuge waters, particularly Lake Bowdoin, a closed basin. In addition, the refuge and adjoining lands are underlain by glacial till and shale containing high concentrations of soluble salts. The Milk River Project water rights for Bowdoin refuge are limited and insufficient to improve wetland water quality. As water evaporates from Lake Bowdoin, salts have become concentrated and water salinity has increased. Historically, two methods have been used to improve Lake Bowdoin's water quality and reduce salinity levels: (1) Discharges of saline water into Beaver Creek; and (2) managing Dry Lake as an evaporation basin for Lake Bowdoin's water. Neither of these methods is acceptable due to impacts from windblown salts and saline water discharge. As a consequence, evaporation has continued to increase salinity levels in Lake Bowdoin to levels that will eventually negatively impact the diversity of aquatic vegetation and invertebrates. Waterfowl production will also be negatively affected, particularly if more suitable freshwater areas are not available or significantly reduced during the breeding season.

The Service hopes to address the salinity and blowing salts issue by developing a water management system on Bowdoin National Wildlife Refuge Complex that would protect the environment and mitigate current and future salt-dust-blowing concerns for neighboring properties, while providing quality water and wildlife habitat for migratory birds. A benchmark for achieving this goal would be to meet the Service's salinity objective of sustaining a brackish water quality level of approximately 7,000 mg/L of total dissolved solids (salts) in Lake Bowdoin. The Service developed and analyzed five alternatives to address the salinity and blowing salts issue for Lake Bowdoin in the Bowdoin National Wildlife Refuge including (1) current management (no action), (2) Evaporation ponds and removal of salt residue, (3) Flushing by Beaver Creek, (4) Underground injection and flushing by Beaver Creek (proposed action), and (5) Pumping to the Milk River. The Service has identified salinity and blowing salts alternative 4 as the best option (proposed action) for addressing this issue based on the effectiveness of treatment, environmental and social consequences, and cost.

Public Availability of Comments

Before including your address, phone number, e-mail address, or other personal identifying information in your comment, you should be aware that your entire comment—including your personal identifying information—may be made publicly available at any time.

The environmental review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: August 25, 2010.
Hugh Morrison,
Acting Regional Director.

[FR Doc. 2011-15551 Filed 6-21-11; 8:45 am]

BILLING CODE 4310-55-P